DEPARTMENT OF HEALTH AND HUMAN SERVICES

Administration for Children and Families

[OMB No. 0970-0545]

Proposed Information Collection Activity; Next Generation of Enhanced Employment Strategies Project

AGENCY: Office of Planning, Research, and Evaluation, Administration for Children and Families, U.S. Department of Health and Human Services.

ACTION: Request for public comments.

SUMMARY: The Office of Planning, Research, and Evaluation (OPRE) within the Administration for Children and Families (ACF) is proposing an extension to the data collection activities conducted for the Next Generation of Enhanced Employment Strategies (NextGen) Project (Office of Management and Budget (OMB) #0970-0545). The project is rigorously evaluating innovative interventions to promote employment and economic security among low-income individuals with complex challenges. The project includes an experimental impact study, descriptive study, and cost study. This extension will allow additional time to conduct study intake, collect data from NextGen programs and staff, and to conduct participant data collections. No changes are proposed to the data collection instruments.

DATES: Comments due within 60 days of publication. In compliance with the requirements of the Paperwork Reduction Act (PRA) of 1995, ACF is soliciting public comment on the specific aspects of the information collection described above.

ADDRESSES: You can obtain copies of the proposed collection of information and submit comments by emailing opreinfocollection@acf.hhs.gov. Identify all requests by the title of the information collection.

SUPPLEMENTARY INFORMATION: Description: OPRE is conducting the NextGen Project to build the evidence around effective strategies for helping low-income individuals find and sustain employment. This project will identify and test innovative employment programs designed to help people facing complex challenges secure economic independence. The project is partnering with the Social Security Administration to incorporate a focus on employment-related early interventions for people with current or foreseeable disabilities who have limited work history and are potential applicants for Supplemental Security Income.

We seek approval for an extension without change for the currently approved data collection activities. For the impact study, this includes: (1) Baseline survey and identifying and contact information data collection, (2) a first follow-up survey, and (3) a second follow-up survey. For the descriptive study, this includes (1) service receipt tracking, (2) a staff characteristics survey, (3) a program leadership survey, (4) semi-structured program discussions (conducted with program leaders, supervisors, partners, staff, and providers), (5) semi-structured employer discussions, and (6) in-depth participant interviews. For the cost study, this includes an Excel-based cost workbook.

Respondents: Program staff, program partners, employer staff, and individuals enrolled in the NextGen Project. Program staff and partners may include case managers, health professionals, workshop instructors, job developers, supervisors, managers, and administrators. Employers may include administrators, human resources staff, and worksite supervisors.

Annual Burden Estimates

This extension request does not change the average burden per response for any of the data collections. The annual burden estimates under this request are for an additional 3 years of data collection. The number of respondents has been updated to reflect the estimated number over the next 3 years.

Instrument | Number of respondents (total over request period) | Number of responses per respondent (total over request period) | Average burden per response (in hours) | Total burden (in hours) | Annual burden (in hours)
Baseline survey and identifying and contact information—participants | 3,000 | 1 | 0.42 | 1,260 | 420
Baseline survey and identifying and contact information—staff | 120 | 25 | 0.42 | 1,260 | 420
First follow-up survey—participants | 3,100 | 1 | 0.83 | 2,573 | 858
Second follow-up survey—participants | 3,360 | 1 | 0.83 | 2,789 | 930
Service receipt tracking—program staff | 80 | 150 | 0.08 | 960 | 320
Staff characteristics survey—staff | 20 | 1 | 0.42 | 8 | 3
Program leadership survey—program leaders | 5 | 1 | 0.25 | 1 | 1
Semi-structured program discussion guide—program leaders | 4 | 1 | 1.5 | 6 | 2
Semi-structured program discussion guide—program supervisors and partners | 8 | 1 | 1.0 | 8 | 3
Semi-structured program discussion guide—program staff and providers | 8 | 1 | 1.0 | 8 | 3
Semi-structured program discussion guide—employers | 8 | 1 | 1.0 | 8 | 3
In-depth participant interviews—participants | 20 | 1 | 2.0 | 40 | 13
Cost workbook—program staff | 28 | 1 | 32.0 | 896 | 299

Estimated Total Annual Burden Hours: 3,275.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 413 of the Social Security Act, as amended by the FY 2017 Consolidated Appropriations Act, 2017 (Pub. L. 115-31).

Mary B. Jones,
ACF/OPRE Certifying Officer.

[FR Doc. 2022-27609 Filed 12-19-22; 8:45 am]

BILLING CODE 4184-09-P